DEPARTMENT OF ENERGY

Federal Energy Regulatory Commission

[Docket No. CP22-138-000]

Northern Natural Gas Company; Notice of Availability of the Final Environmental Impact Statement for The Proposed Northern Lights 2023 Expansion Project

The staff of the Federal Energy Regulatory Commission (FERC or Commission) has prepared a final environmental impact statement (EIS) for the Northern Lights 2023 Expansion Project (Project), proposed by Northern Natural Gas Company (Northern) in the above-referenced docket. Northern requests authorization to abandon, construct, and operate certain interstate natural gas facilities in Freeborn, Washington, Scott, Sherburne, and Stearns Counties, Minnesota and Monroe County, Wisconsin. The proposed Project would allow Northern to provide up to 44,222 dekatherms per day (Dth/d) of natural gas in incremental winter peak day firm transportation service to its existing residential, commercial, and industrial customer market and 6,667 Dth/d of additional firm service that would allow enhanced reliability and flexibility in providing natural gas transportation capacity for electric generation.

The final EIS assesses the potential environmental effects of the construction and operation of the Project in accordance with the requirements of the National Environmental Policy Act (NEPA). The FERC staff concludes that approval of the proposed Project, with the mitigation measures recommended in the final EIS, would result in limited adverse environmental impacts. Most adverse environmental impacts would be temporary or short-term during construction, but some long-term and permanent environmental impacts would occur on some forested lands. With the exception of climate change impacts that are not characterized in this final EIS as significant or insignificant, staff concludes that impacts would be reduced to less than significant levels through implementation of Northern's proposed avoidance, minimization, and mitigation measures, as well as staff's Project-specific recommendations.

The Project would involve six new pipeline segments (four pipeline extensions and two pipeline loops ¹), totaling 9.8 miles of pipe. The pipelines would range in size from 4 to 36 inches-in-diameter. Northern also proposes construction of four new valve settings and modifications at six existing aboveground facilities. Additionally, Northern proposes to abandon and remove two existing valve settings.

¹ Loop is parallel pipelines connected at both ends that allows more gas to flow through that segment.

The final EIS addresses the potential environmental effects of the abandonment, construction and operation of the following Project facilities:

• construction of a 2.79-mile extension of 36-inch-diameter Ventura North E-line, Freeborn County, Minnesota;

• construction of a 1.07-mile, 30-inch-diameter loop of 20-inch-diameter Elk River 1st and 2nd branch lines, Washington County, Minnesota;

• construction of a 1.14-mile extension of 24-inch-diameter Willmar D branch line, Scott County, Minnesota;

• construction of a 2.48-mile extension of 8-inch-diameter Princeton tie over loop, Sherburne County, Minnesota;

• construction of a 2.01-mile loop of 3-inch-diameter Paynesville branch line, Stearns County, Minnesota;

• construction of a 0.34-mile extension of 8-inch-diameter Tomah branch line loop, Monroe County, Wisconsin;

• construction or modification of aboveground facilities including; construction of one new pig launcher within an existing facility, construction of four new valve settings, replacement of valves and piping inside four existing facilities, and installation of two rupture-mitigation valves, associated piping, and building. Aboveground facilities would be in Freeborn, Washington, Scott, Sherburne, and Stearns County, Minnesota; and Monroe County, Wisconsin; and

• abandonment and removal of two valve settings and associated piping in Scott and Freeborn County, Minnesota.

The Commission mailed a copy of this Notice of Availability to federal, state, and local government representatives and agencies; elected officials; regional non-governmental organizations, environmental and public interest groups; potentially interested Indian tribes; affected landowners; and newspapers and libraries in the project area. The final EIS is only available in electronic format. It may be viewed and downloaded from the FERC's website (www.ferc.gov), on the natural gas environmental documents page (https://www.ferc.gov/industries-data/natural-gas/environment/environmental-documents). In addition, the final EIS may be accessed by using the eLibrary link on the FERC's website. Click on the eLibrary link (https://elibrary.ferc.gov/eLibrary/search), select “General Search”, and enter the docket number in the “Docket Number” field, excluding the last three digits (i.e. CP22-138). Be sure you have selected an appropriate date range. For assistance, please contact FERC Online Support at FercOnlineSupport@ferc.gov or toll free at (866) 208-3676, or for TTY, contact (202) 502-8659.

In accordance with the Council on Environmental Quality's (CEQ) regulations implementing NEPA, no agency decision on a proposed action may be made until 30 days after the U.S. Environmental Protection Agency publishes a notice of availability of the final EIS in the Federal Register. However, the CEQ regulations provide an exception to this rule when an agency decision is subject to a formal internal appeal process that allows other agencies or the public to make their views known. In such cases, the agency decision may be made at the same time the notice of the final EIS is published, allowing both periods to run concurrently. The Commission decision for this proposed action is subject to a 30-day rehearing period.

Additional information about the project is available from the Commission's Office of External Affairs, at (866) 208-FERC, or on the FERC website (www.ferc.gov) using the eLibrary link. The eLibrary link also provides access to the texts of all formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to https://www.ferc.gov/ferc-online/overview to register for eSubscription.

Dated: March 10, 2023.
Debbie-Anne A. Reese,
Deputy Secretary.

[FR Doc. 2023-05416 Filed 3-16-23; 8:45 am]

BILLING CODE 6717-01-P